DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 14, 2017.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on October 31, 2017.
Donald Burger,
Chief, General Approvals and Permits Branch.

Application No. | Docket No. | Applicant | Regulation(s) affected | Nature of the special permits thereof
SPECIAL PERMITS DATA
10784-M |  | United States Secret Service | 175.75(b) | To modify the special permit to authorize an additional DOT-specification cylinder to be transported in First Aid/Trauma Kits aboard passenger carrying aircraft.
12130-M |  | FIBA Technologies, Inc | 173.318, 176.76(g), 173.315 | To modify the special permit to change it from a manufacturing permit to a use permit and eliminating the record requirements.
13027-M |  | HERNCO Fabrication & Services, Inc |  | To modify the special permit to authorize the adding of additional Class 3 hazmat.
15806-M |  | Precision Technik, Inc | 173.201, 173.202, 173.203, 173.302, 173.304, 180.209 | To modify the special permit to authorize use of single hatch openings on cylinders, increase the MAWP to 745 psig and decrease the working temperature to 131 degrees.
20274-M |  | SDV (USA) Inc | 172.300, 172.301, 172.400 | To authorize the transportation in commerce of certain non-DOT specification containers containing certain Division 2.1, 2.2, 2.3 liquefied and compressed gases and other hazardous materials for use in specialty cooling applications such as satellites and military aircraft.
20412-N |  | American Railcar Industries, Inc | 179.7(a) | To authorize the transportation in commerce of tanks cars with cast manway covers that have been produced by casting facilities that do not meet the quality assurance program requirements required by AAR MSRP 1002/1003.
20416-N |  | Aluminum Tank & Tank Accessories, Inc | 177.834(h), 178.700(c)(1) | To authorize the manufacture, marking, sale and use of non-DOT specification metal refueling tanks containing certain Class 3 liquids.
20459-N |  | C.H.& I. Technologies, Inc | 178.33-1(a), 178.33a-1 | To authorize the manufacture, mark, sale, and use of non-DOT specification receptacles meeting the requirements for 2P and 2Q receptacles except as provided herein.
20470-N |  | Audi Aktiengesellschaft | 172.101(j) | To authorize the transportation in commerce of lithium ion batteries in excess of 35 kg by cargo-only aircraft.
20474-N |  | Space Exploration Technologies Corp | 172.300, 172.400, Part 173 | To authorizes the transportation in commerce of the Dragon 2 space capsule and associated support equipment containing non-DOT specification packagings of hazardous materials.
20480-N |  | Carolina Logistics Services, L.L.C | 172.301(c), 172.303(a), 173.185(c)(1)(ii), 173.185(c)(1)(iii), 173.185(c)(1)(iv), 173.185(c)(3) | To authorize the transportation in commerce of packages containing lithium cells and batteries without certain package markings when contained in overpacks and transported via motor vehicle and rail.
20482-N |  | Phosphorus Derivatives Inc | 173.35(e) | To authorize the transportation in commerce of residue contained in IBCs where the closure nearest to the hazardous materials cannot be secured.
20498-N |  | Lighting Resources, LLC | 172.101, 172.102(c), 172.301(c), 173.185(a)(1), 173.185(c), 173.185(d), 173.22(a) | To authorize the manufacture, marking, sale and use of specifically designed packagings for the transportation in commerce of certain batteries and cells without shipping papers, and certain marking and labeling when transported for recycling or disposal.
20526-N |  | Space Exploration Technologies Corp | 173.185(e) | To authorize the transportation in commerce of lithium batteries by highway that have not been tested.
20530-N |  | French Alternative Energies and Atomic Energy Commission (CEA) | 172.101(j), 173.185(a) | To authorize the transportation in commerce of prototype lithium ion batteries in excess of 35 kg by cargo-only aircraft.
20532-N |  | Chart Inc | 172.203(a), 177.834(h) | To authorize the manufacture, mark, sale, and use of DOT 4L cylinders for the discharge of refrigerated liquid gases without removing them from the vehicle on which they are transported.
20539-N |  | NHME Inc | 172.504(a) | To authorize the transportation in commerce of oxygen without displaying placards.
20544-N |  | General Dynamics—OTS, Inc | 172.320(a), 173.54(a), 173.54(j), 173.56(b), 173.57, 173.58, 173.60 | Special permit to ship Active Protection System fuzes to General Dynamics Ordnance and Tactical Systems.
20548-N |  | Consumer Product Safety Commission, United States | 173.22(a)(4)(i), 173.22(a)(4)(i)(ii), 173.24(f)(2) | To authorize the transportation in commerce of certain packages that are not closed in accordance with the packaging manufacturer's closure instructions.
20552-N |  | Crowley Liner Services, Inc | 176.905(a) | To authorize the transportation in commerce of vehicles with fuel tanks containing greater than 25% of their capacity by cargo vessel.
20554-N |  | Praxair, Inc | 178.338-11(c) | To authorize the transportation in commerce of oxygen, refrigerated liquid in MC 338 cargo tanks that are not equipped with an on-vehicle remotely controlled self-closing shutoff valve as required at § 178.338-11(c).

[FR Doc. 2017-24568 Filed 11-13-17; 8:45 am]

BILLING CODE 4901-60-P